FEDERAL MARITIME COMMISSION

Ocean Transportation Intermediary License Reissuances

The Commission gives notice that the following Ocean Transportation Intermediary license has been reissued pursuant to section 19 of the Shipping Act of 1984 (46 U.S.C. 40101) effective on the date shown.

License No.: 020445N.

Name: Freight It, Inc.

Address: 11222 La Cienega Blvd., Suite 555, Inglewood, CA 90304.

Date Reissued: December 7, 2012.

Vern W. Hill,
Director, Bureau of Certification and Licensing.

[FR Doc. 2013-01519 Filed 1-24-13; 8:45 am]

BILLING CODE 6730-01-P